DEPARTMENT OF JUSTICE

Notice of Settlement Pursuant to Section 122(h) of the Comprehensive Environmental Response, Compensation and Liability Act

Notice is hereby given that an agreement between the Department of the Interior, National Park Service and the Washington Gas Light Company has been approved, subject to public comment, by the Department of Justice pursuant to Section 122(h) of the Comprehensive Environmental Response, Compensation and Liability Act, 42 U.S.C. 9601 et seq. The settlement provides for recovery of $285,000 in costs incurred by the Park Service in response to contamination on a portion of the National Capitol Parks-East, located beside the Anacostia River in Washington, DC.

For a period of thirty (30) days from the date of this publication, comments relating to the proposed settlement will be received. Such comments should be addressed to Shawn P. Mulligan, National Park Service, 1050 Walnut Street, Suite 220, Boulder, Colorado 80302, (303) 415-9014, or via e-mail at Shawn_Mulligan@nps.gov and should refer to the NPS Washington Gas Light Site.

A copy of the proposed settlement agreement may be obtained from, or reviewed at: National Capital Parks-East Headquarters, 1900 Anacostia Drive, SE., Washington, DC 20020, (202) 690-5185. In requesting a copy, please enclose a check in the amount of $2.75 (25 cents per page reproduction cost) payable to the U.S. Treasury.

Robert Brook,
Assistant Chief, Environmental Enforcement Section, Environment and Natural Resources Division.

[FR Doc. 05-16851 Filed 8-24-05; 8:45 am]

BILLING CODE 4410-15-M